DEPARTMENT OF ENERGY

Federal Energy Regulatory Commission

Notice of Staff Attendance at the Southwest Power Pool Market Working Group Meeting

The Federal Energy Regulatory Commission (Commission) hereby gives notice that members of its staff may attend the meeting of the Southwest Power Pool, Inc. (SPP) Market Working Group, as noted below. Their attendance is part of the Commission's ongoing outreach efforts.

The meeting will be held at the office of American Electric Power Company, 1201 Elm Street, Dallas, TX 72501. The meeting will be held on February 10, 2015 from 8:15 a.m. to 6:00 p.m. and on February 11, 2015 from 8:15 a.m. to 12:00 p.m.

The discussions may address matters at issue in the following proceedings:

Docket No. EL05-19, Southwestern Public Service Company

Docket No. ER05-168, Southwestern Public Service Company

Docket No. ER06-274, Southwestern Public Service Company

Docket No. ER07-1069, American Electric Power

Docket No. ER09-35, Tallgrass Transmission, LLC

Docket No. ER09-36, Prairie Wind Transmission, LLC

Docket No. ER09-548, ITC Great Plains, LLC

Docket No. EL11-34, Midcontinent Independent System Operator, Inc.

Docket No. ER11-4105, Southwest Power Pool, Inc.

Docket No. EL12-28, Xcel Energy Services Inc., et al.

Docket No. EL12-59, Golden Spread Electric Cooperative, Inc.

Docket No. EL12-60, Southwest Power Pool, Inc., et al.

Docket No. ER12-480, Midcontinent Independent System Operator, Inc.

Docket No. ER12-1586, Southwest Power Pool, Inc.

Docket No. ER13-366, Southwest Power Pool, Inc.

Docket No. ER13-367, Southwest Power Pool, Inc.

Docket No. ER13-1748, Southwest Power Pool, Inc.

Docket No. ER13-1864, Southwest Power Pool, Inc.

Docket No. EL14-21, Southwest Power Pool, Inc.

Docket No. EL14-30, Midcontinent Independent System Operator, Inc.

Docket No. EL14-49, Southwest Power Pool, Inc.

Docket No. EL14-65, Southwest Power Pool, Inc.

Docket No. ER14-67, Southwest Power Pool, Inc.

Docket No. ER14-781, Southwest Power Pool, Inc.

Docket No. ER14-1174, Southwest Power Pool, Inc.

Docket No. ER14-1993, Southwest Power Pool, Inc.

Docket No. ER14-2081, Southwest Power Pool, Inc.

Docket No. ER14-2363, Southwestern Public Service Company

Docket No. ER14-2399, Southwest Power Pool, Inc.

Docket No. ER14-2445, Midcontinent Independent System Operator, Inc.

Docket No. ER14-2553, Southwest Power Pool, Inc.

Docket No. ER14-2570, Southwest Power Pool, Inc.

Docket No. ER14-2739, Southwest Power Pool, Inc.

Docket No. ER14-2753, Southwest Power Pool, Inc.

Docket No. ER14-2850, Southwest Power Pool, Inc.

Docket No. ER14-2851, Southwest Power Pool, Inc.

Docket No. ER14-2887, Southwest Power Pool, Inc.

Docket No. ER14-2891, Southwest Power Pool, Inc.

Docket No. ER14-2910, Southwest Power Pool, Inc.

Docket No. ER15-45, Southwest Power Pool, Inc.

Docket No. ER15-329, Golden Spread Electric Cooperative, Inc.

Docket No. ER15-492, Southwest Power Pool, Inc.

Docket No. ER15-534, Southwest Power Pool, Inc.

Docket No. ER15-551, Southwest Power Pool, Inc.

Docket No. ER15-552, Southwest Power Pool, Inc.

Docket No. ER15-532, Southwest Power Pool, Inc.

Docket No. ER15-561, Southwestern Public Service Company

Docket No. ER15-562, Southwestern Public Service Company

Docket No. ER15-568, Southwest Power Pool, Inc.

Docket No. ER15-569, Southwest Power Pool, Inc.

Docket No. ER15-570, Southwest Power Pool, Inc.

Docket No. ER15-571, Southwest Power Pool, Inc.

Docket No. ER15-576, Southwest Power Pool, Inc.

Docket No. ER15-579, Southwest Power Pool, Inc.

Docket No. ER15-599, Southwest Power Pool, Inc.

Docket No. ER15-603, Southwest Power Pool, Inc.

Docket No. ER15-617, Southwest Power Pool, Inc.

Docket No. ER15-627, Golden Spread Electric Cooperative, Inc.

Docket No. ER15-630, Southwest Power Pool, Inc.

Docket No. ER15-633, Southwest Power Pool, Inc.

Docket No. ER15-673, Southwest Power Pool, Inc.

Docket No. ER15-692, Southwest Power Pool, Inc.

Docket No. ER15-752, Southwestern Public Service Company

Docket No. ER15-763, Southwest Power Pool, Inc.

Docket No. ER15-774, Southwest Power Pool, Inc.

Docket No. ER15-787, Southwest Power Pool, Inc.

Docket No. ER15-788, Southwest Power Pool, Inc.

Docket No. ER15-859, Southwest Power Pool, Inc.

The meeting is open to the public.

For more information, contact Patrick Clarey, Office of Energy Market Regulation, Federal Energy Regulatory Commission at (317) 249-5937 or patrick.clarey@ferc.gov.

Dated: February 2, 2015.
Kimberly D. Bose,
Secretary.

[FR Doc. 2015-02462 Filed 2-5-15; 8:45 am]

BILLING CODE 6717-01-P